NUCLEAR REGULATORY COMMISSION

[NRC-2009-0425]

Final Regulatory Guide: Issuance, Availability

AGENCY: Nuclear Regulatory Commission.

ACTION: Notice of Issuance and Availability of Regulatory Guide, RG 8.40, “Methods for Measuring Effective Dose Equivalent From External Exposure.”

FOR FURTHER INFORMATION CONTACT: Roger Pedersen, U.S. Nuclear Regulatory Commission, Washington, DC 20555-0001, telephone: (301) 415-3162 or e-mail Roger.Pedersen@nrc.gov.

SUPPLEMENTARY INFORMATION:

I. Introduction

The U.S. Nuclear Regulatory Commission (NRC) is issuing a new guide in the agency's “Regulatory Guide” series. This series was developed to describe and make available to the public information such as methods that are acceptable to the NRC staff for implementing specific parts of the agency's regulations, techniques that the staff uses in evaluating specific problems or postulated accidents, and data that the staff needs in its review of applications for permits and licenses.

Regulatory Guide 8.40 was issued with a temporary identification as Draft Regulatory Guide, DG-8039. This guide describes dosimetry methods that the NRC considers acceptable for determining the effective dose equivalent (EDE) for external (EDEX) radiation exposures. These methods provide a conservative estimate of the EDEX and may be used to calculate the total effective dose equivalent (TEDE) in demonstrating compliance with TEDE-based NRC regulatory requirements.

II. Further Information

In September 2009, DG-8039 was published with a public comment period of 60 days from the issuance of the guide. The public comment period closed on November 26, 2009. The staff's responses to the public comments received are located in the NRC's Agencywide Documents Access and Management System under Accession Number ML100620118. The regulatory analysis may be found in ADAMS under Accession No. ML101940038. Electronic copies of RG 8.40 are available through the NRC's public Web site under “Regulatory Guides” at http://www.nrc.gov/reading-rm/doc-collections/.

In addition, regulatory guides are available for inspection at the NRC's Public Document Room (PDR) located at 11555 Rockville Pike, Rockville, Maryland. The PDR's mailing address is USNRC PDR, Washington, DC 20555-0001. The PDR can also be reached by telephone at (301) 415-4737 or (800) 397-4205, by fax at (301) 415-3548, and by e-mail to pdr.resource@nrc.gov.

Regulatory guides are not copyrighted, and Commission approval is not required to reproduce them.

Dated at Rockville, Maryland, this 13th day of July 2010.
For the Nuclear Regulatory Commission.
Andrea D. Valentin,
Chief, Regulatory Guide Development Branch, Division of Engineering, Office of Nuclear Regulatory Research.

[FR Doc. 2010-17649 Filed 7-19-10; 8:45 am]

BILLING CODE 7590-01-P